DEPARTMENT OF TRANSPORTATION

Surface Transportation Board

[Docket No. FD 35867]

AD&A Railway, LLC—Acquisition and Operation Exemption—V & S Railway, LLC

AD&A Railway, LLC (AD&A),¹ a noncarrier, has filed a verified notice of exemption under 49 CFR 1150.31 to acquire from V & S Railway, LLC (V&S), and to operate, approximately 5.14 miles of rail lines between milepost 0.0 and milepost 5.14 in Hutchinson, Reno County, Kan. (the Lines).

¹ According to AD&A, on October 10, 2014, AD&A's parent company, Mervis Industries, Inc. (Mervis), executed a Memorandum of Understanding (MOU) with V&S for AD&A's acquisition of certain assets including the Lines from V&S. AD&A states that, pursuant to the MOU, the parties expect to enter into a definitive agreement providing for AD&A's acquisition no later than October 30, 2014.

AD&A states that the Lines connect directly to a Union Pacific Railroad Company main line, and access indirectly the BNSF Railway Company's main lines. The notice states that the Lines also connect to a short stretch of track owned by the Hutchinson Salt Company, Inc. and/or Hutchinson Transportation Company (HSC/HTC). The notice further states that the HSC/HTC track connects to trackage owned by the City of Hutchinson (the City). According to AD&A, Mervis is acquiring property to construct a rail car repair facility adjacent to the City's trackage. AD&A states that the City and HSC/HTC will grant AD&A rights to operate over their respective tracks. According to the notice, HSC/HTC currently conducts private freight rail operations for itself over the Lines and, pursuant to the agreement, will continue to provide such service following AD&A's acquisition of the Lines.

AD&A certifies that the proposed transaction does not contain any provision or agreement that may limit future interchange of traffic with a third-party connecting carrier.

AD&A also certifies that its projected annual revenues as a result of this transaction will not exceed those that would qualify it as a Class III rail carrier and will not exceed $5 million.

This transaction may be consummated on November 22, 2014, the effective date of the exemption (30 days after the exemption was filed).

If the verified notice contains false or misleading information, the exemption is void ab initio. Petitions to revoke the exemption under 49 U.S.C. 10502(d) may be filed at any time. The filing of a petition to revoke will not automatically stay the effectiveness of the exemption. Petitions to stay must be filed no later than November 14, 2014 (at least seven days before the exemption becomes effective).

An original and 10 copies of all pleadings, referring to Docket No. FD 35867, must be filed with the Surface Transportation Board, 395 E Street SW., Washington, DC 20423-0001. In addition, a copy of each pleading must be served on David F. Rifkind, Stinson Leonard Street, LLC, 1775 Pennsylvania Ave. NW., Suite 800, Washington, DC 20006.

Board decisions and notices are available on our Web site at WWW.STB.DOT.GOV.

Decided: November 4, 2014.
By the Board, Joseph H. Dettmar, Acting Director, Office of Proceedings.
Jeffrey Herzig,
Clearance Clerk.

[FR Doc. 2014-26516 Filed 11-6-14; 8:45 am]

BILLING CODE 4915-01-P